FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

Bumerang Freight Limited Liability Company, 275 Park Avenue, Lyndhurst, NJ 07071. Officer: Tuncer Murat, Manager, (Qualifying Individual)

TSI Logistics, Inc., 19401 S. Vermont Avenue, G-107, Torrance, CA 90502. Officers: Seung Tae Hwang, CEO, (Qualifying Individual), Jae Kweon Shim, Secretary.

Non-Vessel-Operating Common Carrier and Ocean Freight Forwarder Transportation Intermediary Applicants

EDI Transport LLC, 1150 Eastport Center Dr., Ste. G, Valpariso, IN 46383. Officers: Imelda G. Post, Secretary, (Qualifying Individual), Eric Charles, President.

Network America Lines, Inc., 226 Chestnut Street, Roselle Park, NJ 07204. Officer: R. Kenneth Johns, Chairman, (Qualifying Individual)

Customs Cleared Company, Inc., 2725 S. Mendenhall, Ste. 20, Memphis, TN 38115. Officer: Karen Wood, President, (Qualifying Individual)

Samrat Container Lines, Inc., 2060 Oak Tree Road, 1st Floor East, Edison, NJ 08820. Officer: Satish V. Anchan, President, (Qualifying Individual)

Ocean Freight Forwarder—Ocean Transportation Intermediary Applicant

Celestial Care Health Systems, Inc., 2901 Druid Park Drive, Ste. 300, Baltimore, MD 21215. Officers: Oluranti J. Awe, Vice President, (Qualifying Individual), Emmanuel O. Iroanya, Jr., Director.

Dated: August 21, 2009.
Karen V. Gregory,
Secretary.

[FR Doc. E9-20608 Filed 8-25-09; 8:45 am]

BILLING CODE 6730-01-P